DEPARTMENT OF THE INTERIOR

Bureau of Land Management

[LLWO320000 L13100000 PP0000 LXSIOSHL0000]

Renewal of Approved Information Collection, OMB Control Number 1004-0201

AGENCY: Bureau of Land Management, Interior.

ACTION: 30-Day notice and request for comments.

SUMMARY: The Bureau of Land Management (BLM) has submitted an information collection request to the Office of Management and Budget (OMB) for a 3-year renewal of OMB control number 1004-0201, which pertains to management of oil shale on public lands.

DATES: The OMB is required to respond to this information collection request within 60 days but may respond after 30 days. Therefore, written comments should be received on or before December 7, 2011.

ADDRESSES: Please submit comments directly to the Desk Officer for the Department of the Interior (OMB #1004-0201), Office of Management and Budget, Office of Information and Regulatory Affairs, fax (202) 395-5806, or by electronic mail at oira_docket@omb.eop.gov. Please provide a copy of your comments to the BLM. You may do so via mail, fax, or electronic mail.

Mail: U.S. Department of the Interior, Bureau of Land Management, 1849 C Street NW., Room 2134LM, Attention: Jean Sonneman, Washington, DC 20240.

Fax: Jean Sonneman at fax number (202) 245-0050.

Electronic mail: jean_sonneman@blm.gov.

FOR FURTHER INFORMATION CONTACT: Mavis Love at (307) 775-6258. Persons who use a telecommunication device for the deaf (TDD) may call the Federal Information Relay Service at 1-(800) 877-8339, to contact Ms. Love. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. 44 U.S.C. 3506 and 3507. In order to obtain or renew an OMB control number, Federal agencies are required to seek public comment on information collection and recordkeeping activities (see 5 CFR 1320.8(d) and 1320.12(a)).

As required at 5 CFR 1320.8(d), the BLM published a 60-day notice in the Federal Register on July 26, 2011 (76 FR 44600), soliciting comments from the public and other interested parties. The comment period closed on September 26, 2011. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0201 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Oil Shale Management (43 CFR Parts 3900, 3910, 3920, and 3930).

Form: Under 43 CFR 3904.12, bonds must be filed on an approved BLM form. However, the BLM has not yet developed the form.

OMB Control Number: 1004-0201.

Abstract: Section 369 of the Energy Policy Act (codified at 42 U.S.C. 15927 and amendments to 30 U.S.C. 241) authorizes the BLM to collect information from applicants for oil shale leases, oil shale lessees, and operators. This collection enables the BLM to:

(1) Learn the extent and qualities of the public oil shale resource;

(2) Evaluate the environmental impacts of oil shale leasing and development;

(3) Determine the qualifications of prospective lessees to acquire and hold Federal oil shale leases;

(4) Administer statutes applicable to oil shale mining, production, resource recovery and protection, operations under oil shale leases, and exploration under leases and licenses;

(5) Ensure lessee compliance with applicable statutes, regulations, and lease terms and conditions; and

(6) Ensure that accurate records are kept of all Federal oil shale produced.

Frequency: On occasion.

Description of Respondents: Applicants for oil shale leases, oil shale lessees, and operators.

Estimated Reporting and Recordkeeping “Hour” Burden: 24 responses and 1,795 hours annually. The following table details the individual components and respective hour burdens of this information collection request:

A. Type of response | B. Number of responses | C. Hours per response | D. Total hours (B × C)
Application for Waiver, Suspension, or Reduction of Rental or Payment In Lieu of Production; Application for Reduction in Royalty; or Application for Waiver of Royalty 43 CFR 3903.54(b) | 1 | 1 | 1
Bonding Requirements 43 CFR subpart 3904 | 1 | 1 | 1
Application for an Exploration License 43 CFR 3910.31(a) through (e) | 1 | 24 | 24
Notice Seeking Participation in an Exploration License 43 CFR 3910.31(f) | 1 | 1 | 1
Data Obtained Under an Exploration License 43 CFR 3910.44 | 1 | 8 | 8
Response to Call for Expression of Leasing Interest 43 CFR 3921.30 | 1 | 4 | 4
Application for a Lease—Individuals 43 CFR 3902.23, 3922.20, and 3922.30 | 1 | 308 | 308
Application for a Lease—Associations 43 CFR 3902.24, 3922.20, and 3922.30 | 1 | 308 | 308
Application for a Lease—Corporations 43 CFR 3902.25, 3922.20, and 3922.30 | 1 | 308 | 308
Sealed Bid 43 CFR 3924.10 | 1 | 8 | 8
Application to Convert Research, Development, and Demonstration Lease to Commercial Lease 43 CFR 3926.10(c) | 1 | 308 | 308
Drill and Geophysical Logs 43 CFR 3930.11(b) | 1 | 19 | 19
New Geologic Information 43 CFR 3930.20(b) | 1 | 19 | 19
Plan of Development 43 CFR 3931.11 | 1 | 308 | 308
Application for Suspension of Lease Operations and Production 43 CFR 3931.30 | 1 | 24 | 24
Exploration Plan 43 CFR 3931.41 | 1 | 24 | 24
Modification of Approved Exploration Plan or Plan of Development 43 CFR 3931.50 | 1 | 24 | 24
Production Maps and Production Reports 43 CFR 3931.70 | 1 | 16 | 16
Records of Core or Test Hole Samples and Cuttings 43 CFR 3931.80 | 1 | 16 | 16
Application for Modification of Lease Size 43 CFR 3932.10, 3930.20, and 3932.30 | 1 | 12 | 12
Request for Approval of Assignment of Record Title or Sublease or Notice of Overriding Royalty Interest Assignment 43 CFR Subpart 3933 | 2 | 10 | 20
Relinquishment of Lease or Exploration License 43 CFR 3934.10 | 1 | 18 | 18
Production and Sale Records 43 CFR 3935.10 | 1 | 16 | 16
Totals | 24 |  | 1,795

Estimated Reporting and Recordkeeping “Non-Hour Cost” Burden: Fixed fees in the amount of $420 and case-by-case cost-recovery fees in the amount of $526,177.

Jean Sonneman,
Bureau of Land Management, Information Collection Clearance Officer.

[FR Doc. 2011-28750 Filed 11-4-11; 8:45 am]

BILLING CODE 4310-84-P